DEPARTMENT OF TRANSPORTATION

Federal Aviation Administration

Notice of Request To Release Airport Property at Charleston International Airport, Charleston, South Carolina

AGENCY: Federal Aviation Administration (FAA), DOT.

ACTION: Notice.

SUMMARY: The Federal Aviation Administration (FAA) is considering a request to release and authorize the sale of three parcels totaling 266.954-acres of airport property located at the Charleston International Airport, Charleston, South Carolina, and invites public comment on this notice. The three parcels of airport property are planned to be sold by the Charleston County Aviation Authority for the proposed use of aircraft manufacturing. Currently, ownership of the property provides for protection of FAR Part 77 surfaces and compatible land use which would continue to be protected with deed restrictions required in the transfer of land ownership.

DATES: Comments must be received on or before November 25, 2013.

ADDRESSES: Documents are available for review by prior appointment at the following location: Atlanta Airports District Office, Attn: Rob Rau, South Carolina Planner, 1701 Columbia Ave., Suite 2-260, College Park, Georgia 30337-2747, Telephone: (404) 305-7004.

Comments on this notice may be mailed or delivered in triplicate to the FAA at the following address: Atlanta Airports District Office, Attn: Rob Rau, South Carolina Planner, 1701 Columbia Ave., Suite 2-260, College Park, Georgia 30337-2747.

In addition, one copy of any comments submitted to the FAA must be mailed or delivered to Senator Paul G. Campbell, Jr., Director of Airports, Charleston International Airport at the following address: 5500 International Boulevard, Suite 101, Charleston, South Carolina 29418-6911.

FOR FURTHER INFORMATION CONTACT: Rob Rau, South Carolina Planner, Atlanta Airports District Office, 1701 Columbia Ave., Suite 2-260, College Park, Georgia 30337-2747, (404)305-7004. The application may be reviewed in person at this same location.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by grant agreements. The FAA invites public comment on the request to release property at the Charleston International Airport under the provisions of AIR 21.

The FAA is reviewing a request by the Charleston County Aviation Authority to release 266.954 acres of airport property at the Charleston International Airport. The Charleston County Aviation Authority plans to sell the subject property for the purpose of aircraft manufacturing and related support functions.

All three Parcels of land were originally acquired from Georgia Pacific under ADAP Grant 6-45-0012-01 in September, 1976 for future airport development.

1. Parcel A is 141.1 acres, the largest of the three parcels. It is located northwest of the intersection of International Boulevard and Michaux Parkway. The Airport Surveillance Radar (ASR-9) is located on this parcel. The Charleston County Aviation Authority granted an easement to the FAA for this facility that runs with the land into perpetuity or until abandoned by the FAA.

2. Parcel B is 103.0 acres located south of International Boulevard, east of Michaux Parkway and west of Interstate 526 (Mark Clark Expressway).

3. Parcel C is 22.8 acres fronting International Boulevard and encompasses three office buildings and other various site improvements. This property is commonly referred to as the South Carolina Research Authority (SCRA) Tract or Trident area.

Fair market value will be obtained from the sale of the subject airport property. The use of the revenue generated from the sale of the property will be in accordance with FAA's Policy and Procedures Concerning the Use of Airport Revenue, published in the Federal Register on February 16, 1999 (64 FR 7696). The Aviation Authority's airport account will be properly compensated, thereby serving the interests of civil aviation. In addition, the proposed use of this property is compatible with airport operations.

Any person may inspect the request in person at the FAA office listed above under FOR FURTHER INFORMATION CONTACT. In addition, any person may, upon request, inspect the request, notice and other documents germane to the request in person at the Charleston International Airport.

Issued in Atlanta, Georgia on October 10, 2013.
Larry F. Clark,
Assistant Manager, Atlanta Airports District Office Southern Region.

[FR Doc. 2013-24985 Filed 10-23-13; 8:45 am]

BILLING CODE 4910-13-P